DEPARTMENT OF TRANSPORTATION

Federal Aviation Administration

14 CFR Part 71

[Docket No. FAA-2017-0296; Airspace Docket No. 17-ACE-7]

Amendment of Class E Airspace; Oskaloosa, IA

AGENCY: Federal Aviation Administration (FAA), DOT.

ACTION: Final rule; correction.

SUMMARY: This action corrects a final rule published in the Federal Register of August 28, 2017 that modifies E airspace extending upward from 700 feet above the surface at Oskaloosa Municipal Airport, Oskaloosa, IA, to accommodate new standard instrument approach procedures for instrument flight rules (IFR) operations at the airport. The FAA identified that the reference to the Ottumwa, IA Class E airspace was not removed from the legal description as it should have been.

DATES: Effective 0901 UTC, December 7, 2017. The Director of the Federal Register approves this incorporation by reference action under Title 1, Code of Federal Regulations, part 51, subject to the annual revision of FAA Order 7400.11 and publication of conforming amendments.

FOR FURTHER INFORMATION CONTACT: Walter Tweedy, Federal Aviation Administration, Operations Support Group, Central Service Center, 10101 Hillwood Parkway, Fort Worth, TX, 76177; telephone (817) 222-5900.

SUPPLEMENTARY INFORMATION:

History

The FAA published a final rule in the Federal Register (82 FR 40692, August 28, 2017) Docket No. FAA-2017-0296; corrected (82 FR 47098, October 11, 2017), Docket No. FAA-2017-0315, modifying Class E airspace extending upward from 700 feet above the surface at Oskaloosa Municipal Airport, Oskaloosa, IA.

Subsequent to publication, The FAA found that reference to the Ottumwa, IA Class E airspace was inadvertently left in the airspace description. This action removes the wording from the legal description.

Class E airspace designations are published in paragraph 6005, respectively, of FAA Order 7400.11B, dated August 2, 2017, and effective September 15, 2017, which is incorporated by reference in 14 CFR 71.1. The Class E airspace designations listed in this document will be published subsequently in the Order.

Correction to Final Rule

Accordingly, pursuant to the authority delegated to me, in the Federal Register of August 3, 2017 (82 FR 40692) FR Doc. 2017-18107, Amendment of Class E Airspace; Oskaloosa, IA, is corrected as follows:

§ 71.1 [Amended]

ACE IA E5 Oskaloosa, IA [Corrected]

On page 40694 column 1, on lines 11 and 12, remove the following text:

“excluding that airspace within the Ottumwa, IA Class E airspace area.”

Issued in Fort Worth, Texas on October 17, 2017.
Christopher L. Southerland,
Acting Manager, Operations Support Group, ATO Central Service Center.

[FR Doc. 2017-23247 Filed 10-31-17; 8:45 am]

BILLING CODE 4910-13-P